DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from an area north of the Native Village of Barrow, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Slater Museum of Natural History, University of Puget Sound professional staff and a consultant in consultation with representatives of the Native Village of Barrow Inupiat Traditional Government.

In the summer of 1953, human remains representing a minimum of two individuals were removed from a site between the Native Village of Barrow, AK, and the Naval Arctic Research Laboratory, by Stewart Lowther, a geologist. In July 2006, after Dr. Lowther retired, the human remains were brought to the Slater Museum of Natural History. There is no additional information regarding the collection and subsequent transfer of the human remains to the museum. No known individuals were identified. No associated funerary objects are present.

The individuals are most likely of Native American ancestry as indicated by morphological features. The geographical location where the human remains were recovered is consistent with the historically documented territory of the Native Village of Barrow Inupiat Traditional Government. Furthermore, based on information provided during consultation with tribal representatives, there is a reasonable belief that the human remains share a common ancestry with members of the Native Village of Barrow Inupiat Traditional Government.

Officials of the Slater Museum of Natural History have determined that, pursuant to 25 U.S.C. 3001 (9-10), the human remains described above likely represent the physical remains of two individuals of Native American ancestry. Officials of the Slater Museum of Natural History also have determined that, pursuant to 25 U.S.C. 3001 (2), there is a relationship of shared group identity that can be reasonably traced between the Native American human remains and the Native Village of Barrow Inupiat Traditional Government.

Representatives of any other Indian tribe that believes itself to be culturally affiliated with the human remains should contact Dr. Peter Wimberger, Director, Slater Museum of Natural History, 1500 N. Warner, Tacoma, WA 98416, telephone (253) 879-2784, before December 22, 2006. Repatriation of the human remains to the Native Village of Barrow Inupiat Traditional Government may proceed after that date if no additional claimants come forward.

The Slater Museum of Natural History is responsible for notifying the Native Village of Barrow Inupiat Traditional Government that this notice has been published.

Dated: October 30, 2006.
Sherry Hutt,
Manager, National NAGPRA Program.

[FR Doc. E6-19791 Filed 11-21-06; 8:45 am]

BILLING CODE 4312-50-S